DEPARTMENT OF THE INTERIOR

Office of Surface Mining Reclamation and Enforcement

30 CFR Part 914

[SATS No. IN-160-FOR; Docket ID: OSM-2011-0008]

Indiana Regulatory Program

AGENCY: Office of Surface Mining Reclamation and Enforcement, Interior.

ACTION: Proposed rule; public comment period on proposed amendment.

SUMMARY: We, the Office of Surface Mining Reclamation and Enforcement (OSM), are announcing receipt of a proposed amendment to the Indiana regulatory program (Indiana program) under the Surface Mining Control and Reclamation Act of 1977 (SMCRA or the Act). Indiana proposes revisions to its ownership/control provisions and miscellaneous adjustments to other regulations. Indiana proposes these revisions to be consistent with the corresponding Federal regulations, to clarify ambiguities, and to improve operational efficiency.

This document provides the times and locations that the Indiana program and proposed amendments to this program are available for your inspection, the comment period during which you may submit written comments on the amendment, and the procedures that we will follow for the public hearing, if one is requested.

DATES: We will accept written comments on this amendment until 4 p.m., c.d.t., August 10, 2011. If requested, we will hold a public hearing on the amendment on August 5, 2011. We will accept requests to speak at a hearing until 4 p.m., c.d.t. on July 26, 2011.

ADDRESSES: You may submit comments, identified by SATS No. IN-160-FOR, by any of the following methods:

• E-mail: agilmore@osmre.gov and include SATS No. IN-160-FOR in the subject line of the message.

• Mail/Hand Delivery: Andrew R. Gilmore, Chief, Alton Field Division Indianapolis Area Office, Office of Surface Mining Reclamation and Enforcement, Minton-Capehart Federal Building, 575 North Pennsylvania Street, Room 236, Indianapolis, Indiana 46204.

• Fax: (317) 226-6182.

• Federal eRulemaking Portal: The amendment has been assigned Docket ID: OSM-2011-0008. If you would like to submit comments go to http://www.regulations.gov. Follow the instructions for submitting comments.

Instructions: All submissions received must include the agency name and docket number for this rulemaking. For detailed instructions on submitting comments and additional information on the rulemaking process, see the “Public Comment Procedures” heading of the SUPPLEMENTARY INFORMATION section of this document.

Docket: For access to the docket to review copies of the Indiana regulations, this amendment, a listing of any scheduled public hearings, and all written comments received in response to this document, you must go to the address listed below during normal business hours, Monday through Friday, excluding holidays. You may receive one free copy of the amendment by contacting OSM's Alton Field Division; or you can view the full text of the program amendment available for you to read at http://www.regulations.gov.

Andrew R. Gilmore, Chief, Alton Field Division Indianapolis Area Office, Office of Surface Mining Reclamation and Enforcement, Minton-Capehart Federal Building, 575 North Pennsylvania Street, Room 236, Indianapolis, Indiana 46204, Telephone: (317) 226-6700, E-mail: agilmore@osmre.gov.

In addition, you may review a copy of the amendment during regular business hours at the following location: Division of Reclamation, Indiana Department of Natural Resources, R.R. #2, Box 129, Jasonville, IN 47438.

FOR FURTHER INFORMATION CONTACT: Andrew R. Gilmore, Chief, Alton Field Division-Indianapolis Area Office. Telephone: (317) 226-6700. E-mail: agilmore@osmre.gov.

SUPPLEMENTARY INFORMATION:

I. Background on the Indiana Program

II. Description of the Proposed Amendment

III. Public Comment Procedures

IV. Procedural Determinations

I. Background on the Indiana Program

Section 503(a) of the Act permits a State to assume primacy for the regulation of surface coal mining and reclamation operations on non-Federal and non-Indian lands within its borders by demonstrating that its program includes, among other things, “a State law which provides for the regulation of surface coal mining and reclamation operations in accordance with the requirements of this Act * * *; and rules and regulations consistent with regulations issued by the Secretary pursuant to this Act.” See 30 U.S.C. 1253(a)(1) and (7). On the basis of these criteria, the Secretary of the Interior (Secretary) conditionally approved the Indiana program effective July 29, 1982. You can find background information on the Indiana program, including the Secretary's findings, the disposition of comments, and the conditions of approval of the Indiana program in the July 26, 1982, Federal Register (47 FR 32071). You can also find later actions concerning the Indiana program and program amendments at 30 CFR 914.10, 914.15, 914.16, and 914.17.

II. Description of the Proposed Amendment

By letter dated May 25, 2011, (Administrative Record No. IND-1756), Indiana sent us amendments to its Program under SMCRA (30 U.S.C. 1201 et seq.) to satisfy ownership and control requirements and to make miscellaneous revisions to other regulations. Below is a summary of the changes proposed by Indiana. The full text of the program amendment is available for you to read at the locations listed above under ADDRESSES or at http://www.regulations.gov.

A. 312 IAC 25-1-10.5 Applicant/Violator System; 312 IAC 25-1-32.5 Control or Controller; 312 IAC 25-1-51.5 Federal Office of Surface Mining Applicant/Violator System Office; and 312 IAC 25-1-75.1 Knowing or Knowingly

Indiana proposes to add new definitions in these sections. The full text of the program amendment is available for you to read at the locations listed above under ADDRESSES or at http://www.regulations.gov.

B. 312 IAC 25-1-48 Excess Spoil

Indiana proposes to amend this definition in this section. The full text of the program amendment is available for you to read at the locations listed above under ADDRESSES or at www.regulations.gov.

C. 312 IAC 25-4-18 Surface Mining Permit Applications; Compliance Information and 312 IAC 25-4-59 Underground Mining Permit Applications; Compliance Information

Indiana proposes to amend these sections to require compliance history reports from the applicant/violator system for both surface and underground mining. The amendment also specifies how Indiana will utilize compliance information received from the permittee and adds the “operator” to the list of entities that must submit compliance information. The full text of the program amendment is available for you to read at the locations listed above under ADDRESSES or at http://www.regulations.gov.

D. 312 IAC 25-4-115.1 Post Permit Issuance Information Requirements

Indiana proposes to add this section to require timely notice of changes of owners and controlers by the permittee. The full text of the program amendment is available for you to read at the locations listed above under ADDRESSES or at http://www.regulations.gov.

E. 312 IAC 25-4-122.1 Review of Director's Ownership or Control Listing or Finding

Indiana proposes to add this section to provide provisions for challenging an ownership/control determination. The full text of the program amendment is available for you to read at the locations listed above under ADDRESSES or at http://www.regulations.gov.

F. 312 IAC 25-4-122.2 Burden of Proof for Ownership or Control Challenges

Indiana proposes to add this section to outline evidence necessary for submission by the permittee during ownership/control challenges. The full text of the program amendment is available for you to read at the locations listed above under ADDRESSES or at http://www.regulations.gov.

G. 312 IAC 25-4-122.3 Written Agency Decision on Challenges to Ownership or Control

Indiana proposes to add this section to outline duties of the Department as a result of an ownership/control challenge. The full text of the program amendment is available for you to read at the locations listed above under ADDRESSES or at http://www.regulations.gov.

H. 312 IAC 25-4-127 Permit Reviews; Revisions, Renewals, and Transfer, Sale, or Assignment of Rights Granted Under Permits; Permit Revisions

Indiana proposes to amend this section to clarify various requirements for permit revisions including adding definitions and requirements for significant revisions, non-significant revisions and minor field revisions. The full text of the program amendment is available for you to read at the locations listed above under ADDRESSES or at http://www.regulations.gov.

I. 312 IAC 25-5-7 Period of Liability

Indiana proposes to amend this section to provide clarity concerning the period of liability for alternative postmine land uses beyond the control of the permittee. The full text of the program amendment is available for you to read at the locations listed above under ADDRESSES or at http://www.regulations.gov.

J. 312 IAC 25-5-16 Performance Bond Release; Requirements

Indiana proposes to amend this section to clarify requirements for informal conferences and public hearings associated with bond release. The full text of the program amendment is available for you to read at the locations listed above under ADDRESSES or at http://www.regulations.gov.

K. 312 IAC 25-6-59 Surface Mining; Revegetation; Standards for Success for Nonprime Farmland

Indiana proposes to amend this section to provide for alternative stocking rates for specific forest reclamation approaches. The full text of the program amendment is available for you to read at the locations listed above under ADDRESSES or at http://www.regulations.gov.

L. 312 IAC 25-6-93 Underground Mining; Explosives; General Requirements

Indiana proposes to amend this section to clarify applicability of blasting regulations for construction of slopes and shafts at underground coal mines. The full text of the program amendment is available for your review at the locations listed above under ADDRESSES or at http://www.regulations.gov.

M. 312 IAC 25-6-94 Underground Mining; Explosives; Preblasting Survey

Indiana proposes to amend this section for the purpose of mirroring requirements for preblast surveys at underground mines with that of the surface mine preblast survey provisions at 312 IAC 25-6-30 Surface mining; explosives; general requirements. The full text of the program amendment is available for you to read at the locations listed above under ADDRESSES or at http://www.regulations.gov.

N. 312 IAC 25-6-95 Underground Mining; Explosives; Publication of Blasting Schedule

Indiana proposes to amend this section concerning publication and approval of blasting schedules and to mirror the requirements of the surface mine blasting provisions at 312 IAC 25-6-31 Surface mining; explosives; publication of blasting schedule. The full text of the program amendment is available for you to read at the locations listed above under ADDRESSES or at http://www.regulations.gov.

O. 312 IAC 25-7-5 State Enforcement; Cessation Orders

Indiana proposes to amend this section in regard to stays of a cessation order and to provide information concerning rights to appeal of determinations made under this regulation. The full text of the program amendment is available for you to read at the locations listed above under ADDRESSES or at http://www.regulations.gov.

P. 312 IAC 25-4-23 Surface Mining Permit Applications; Identification of Other Safety and Environmental Licenses and Permits, and 312 IAC 25-4-64 Underground Mining Permit Application; Legal and Financial Information; Identification of Other Licenses and Permits

Indiana proposes to repeal these sections because the Federal counterpart regulations have been repealed. The full text of the program amendment is available for you to read at the locations listed above under ADDRESSES or at http://www.regulations.gov.

III. Public Comment Procedures

Under the provisions of 30 CFR 732.17(h), we are seeking your comments on whether Indiana's proposed amendment satisfies the applicable program approval criteria of 30 CFR 732.15. If we approve the amendment, it will become part of Indiana's State Program.

Electronic or Written Comments

If you submit written comments, they should be specific, confined to issues pertinent to the proposed regulations, and explain the reason for any recommended change(s). We appreciate any and all comments, but those most useful and likely to influence decisions on the final regulations will be those that either involve personal experience or include citations to and analyses of SMCRA, its legislative history, its implementing regulations, case law, other pertinent State or Federal laws or regulations, technical literature, or other relevant publications.

We cannot ensure that comments received after the close of the comment period (see DATES) or sent to an address other than those listed (see ADDRESSES) will be included in the docket for this rulemaking and considered.

Public Availability of Comments

Before including your address, phone number, email address, or other personal identifying information in your comment, you should be aware that your entire comment—including your personal identifying information—may be made publicly available at any time. While you can ask us in your comment to withhold your personal identifying information from public review, we cannot guarantee that we will be able to do so.

Public Hearing

If you wish to speak at the public hearing, contact the person listed under FOR FURTHER INFORMATION CONTACT by 4 p.m., c.d.t. on July 26, 2011. If you are disabled and need reasonable accommodations to attend a public hearing, contact the person listed under FOR FURTHER INFORMATION CONTACT. We will arrange the location and time of the hearing with those persons requesting the hearing. If no one requests an opportunity to speak, we will not hold a hearing.

To assist the transcriber and ensure an accurate record, we request, if possible, that each person who speaks at the public hearing provide us with a written copy of his or her comments. The public hearing will continue on the specified date until everyone scheduled to speak has been given an opportunity to be heard. If you are in the audience and have not been scheduled to speak and wish to do so, you will be allowed to speak after those who have been scheduled. We will end the hearing after everyone scheduled to speak and others present in the audience who wish to speak, have been heard.

Public Meeting

If only one person requests an opportunity to speak, we may hold a public meeting rather than a public hearing. If you wish to meet with us to discuss the amendment, please request a meeting by contacting the person listed under FOR FURTHER INFORMATION CONTACT. All such meetings are open to the public. If possible, we will post notices of meetings at the locations listed under ADDRESSES. We will make a written summary of each meeting a part of the administrative record.

IV. Procedural Determinations

Executive Order 12866—Regulatory Planning and Review

This rule is exempted from review by the Office of Management and Budget (OMB) under Executive Order 12866.

Other Laws and Executive Orders Affecting Rulemaking

When a State submits a program amendment to OSM for review, our regulations at 30 CFR 732.17(h) require us to publish a notice in the Federal Register indicating receipt of the proposed amendment, its text or a summary of its terms, and an opportunity for public comment. We conclude our review of the proposed amendment after the close of the public comment period and determine whether the amendment should be approved, approved in part, or not approved. At that time, we will also make the determinations and certifications required by the various laws and executive orders governing the rulemaking process and include them in the final rule.

List of Subjects in 30 CFR Part 914

Intergovernmental relations, Surface mining, Underground mining.

Dated: June 1, 2011.
William L. Joseph,
Acting Regional Director, Mid-Continent Region.

[FR Doc. 2011-17297 Filed 7-8-11; 8:45 am]

BILLING CODE 4310-05-P